NUCLEAR REGULATORY COMMISSION

[NRC-2020-0057]

Standard Format and Content of Safeguards Contingency Plans for Transportation

AGENCY: Nuclear Regulatory Commission.

ACTION: Regulatory guide; withdrawal.

SUMMARY: The U.S. Nuclear Regulatory Commission (NRC) is withdrawing Regulatory Guide (RG) 5.56, “Standard Format and Content of Safeguards Contingency Plans for Transportation.” RG 5.56 is being withdrawn because it contains regulatory guidance that is out of date and not currently necessary.

DATES: The withdrawal of RG 5.56 takes effect on April 17, 2020.

ADDRESSES: Please refer to Docket ID NRC-2020-0057 when contacting the NRC about the availability of information regarding this document. You may obtain publicly-available information related to this document using any of the following methods:

• Federal Rulemaking website: Go to https://www.regulations.gov and search for Docket ID NRC-2020-0057. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The basis for withdrawal of RG 5.56 is available in ADAMS under Accession No. ML20030A085.

FOR FURTHER INFORMATION CONTACT: Albert N. Tardiff, telephone: 301-287-3613, email: Al.Tardiff@nrc.gov, or Mekonen Bayssie, telephone: 301-415-1699, email: Mekonen.Bayssie@nrc.gov; U.S. Nuclear Regulatory Commission, Washington, DC 20555-0001.

SUPPLEMENTARY INFORMATION:

I. Background

RG 5.56 was published for comment in March 1978 to provide guidance on the development of safeguards contingency plans for transportation. This guide supports meeting NRC physical protection requirements for transportation of special nuclear material (SNM). In addition, it supports meeting the NRC licensing requirements to transport formula quantities of strategic SNM (also referred to as Category I quantities of strategic SNM).

The NRC is withdrawing RG 5.56, “Standard Format and Content of Safeguards Contingency Plans for Transportation,” because the guide no longer provides methods that the NRC staff finds acceptable to meet the NRC's regulatory requirements.

As a matter of agreement, the U.S. Department of Energy (DOE) currently transports Category I quantities of strategic SNM using its own guidance. This is expected to continue into the foreseeable future. The NRC's regulatory requirements for transportation security of this material are still in place. However, these requirements have not been updated for the current threat environment. Moreover, given the lack of any private transport of these materials, no post-9/11 security orders were developed to address contingency plans for transportation. Therefore, the NRC staff considers RG 5.56 to be outdated and is not satisfactory for developing contingency plans for the transportation of Category I strategic SNM in the future.

It may be possible for the staff to update the guidance to make it useful for potential future use; however, the staff concludes that the expenditure of resources to revise the guide is neither necessary nor warranted. If an NRC licensee or applicant proposed to transport Category I quantities of strategic SNM today without DOE, the staff would evaluate the need for additional physical protection, given the current threat environment, and provide approval to the licensee or applicant, as appropriate, on a case-by-case basis. The likelihood of such a proposal is expected to be remote. Other general NRC guidance on the development of contingency plans can be found in NUREG/CR-6667, “Standard Review Plan for Safeguards Contingency Response Plans for Category I Fuel Facilities,” and such guidance could be useful in developing a contingency plan for transportation of Category I quantities of SNM.

II. Further Information

The withdrawal of RG 5.56 does not alter any prior or existing NRC licensing approval, or the acceptability of licensee commitments made regarding the withdrawn guidance. Although RG 5.56 is withdrawn, current licensees referencing this RG may continue to do so, and withdrawal does not affect any existing licenses or agreements. However, by withdrawing RG 5.56, the NRC no longer approves use of the guidance in future requests or applications for NRC licensing actions.

Dated: April 14, 2020.
For the Nuclear Regulatory Commission.
Thomas H. Boyce,
Chief, Regulatory Guidance and Generic Issues Branch, Division of Engineering, Office of Nuclear Regulatory Research.

[FR Doc. 2020-08158 Filed 4-16-20; 8:45 am]

BILLING CODE 7590-01-P